DEPARTMENT OF HEALTH AND HUMAN SERVICES

Centers for Disease Control and Prevention

Advisory Committee for Injury Prevention and Control (ACIPC), Family and Intimate Violence Prevention Subcommittee; Meeting

In accordance with section 10(a)(2) of the Federal Advisory Committee Act (Public Law 92-463), the Centers for Disease Control and Prevention (CDC) announces the following subcommittee meeting.

Name: ACIPC Family and Intimate Violence Prevention Subcommittee.

Time and Date: 12 p.m.-4 p.m., November 28, 2000.

Place: The Hyatt Regency Atlanta, 265 Peachtree Street, N.E., Atlanta, Georgia 30303

Status: Open to the public, limited only by the space available.

Purpose: To advise and make recommendations to ACIPC and the Director, National Center for Injury Prevention and Control (NCIPC), regarding feasible goals for prevention and control of family and intimate violence and sexual assault. The Subcommittee will make recommendations regarding policies, strategies, objectives and priorities.

Matters to be Discussed: The Subcommittee will review current and planned family and intimate violence prevention program initiatives and activities.

Agenda items are subject to change as priorities dictate.

This notice is published less than 15 days prior to the meeting due to administrative delay.

Contact Person for More Information: Ileana Arias, Ph.D., Team Leader, Family and Intimate Violence Prevention Team, DVP, NCIPC, CDC, 4770 Buford Highway, NE, M/S K60, Atlanta, Georgia 30341-3724, telephone 770/488-4410.

The Director, Management Analysis and Services Office, has been delegated the authority to sign Federal Register notices pertaining to announcements of meetings and other committee management activities, for both the Centers for Disease Control and Prevention and the Agency for Toxic Substances and Disease Registry.

Dated: November 15, 2000.
Carolyn J. Russell,
Management Analysis and Services Office, Centers for Disease Control and Prevention.

[FR Doc. 00-29719 Filed 11-16-00; 12:15 pm]

BILLING CODE 4163-18-P